DEPARTMENT OF ENERGY

Federal Energy Regulatory Commission

[Docket Nos. OR96-2-018; IS98-1-006; Docket Nos. OR92-8-033; OR93-5-020; OR94-4-021; Docket No. IS06-215-003; Docket No. IS06-220-002]

SFPP, L.P.; SFPP, L.P.; SFPP, L.P.; SFPP, L.P.; Notice of Filing

Take notice that on February 10, 2011, the SFPP, L.P. filed with the Commission a proposal to provide refunds to shippers who were not litigants in the captioned dockets, Such shippers may be entitled to refunds pursuant to the Commission's orders dated December 8, 2006 (SFPP, L.P., 117 FERC ¶ 61, 285 (2007)), December 26, 2007 (SFPP, L.P., 121 FERC ¶ 61,240 (2007)), and February 5, 2008 (SFPP, L.P., 122 FERC ¶ 61,133 (2008)). SFPP states that the cited orders may have modified the refund amounts due shippers under prior orders in the captioned dockets, and that those shippers may in fact owe SFPP sums that it is entitled to recoup from those shippers. To assure that it recovers the sums due it, SFPP proposes to set aside as a reserve 29.74 percent of the total additional refunds it had determined are due certain shippers that did not participate in the litigation in the cited dockets. Thus the total amount refunds remaining due could be reduced by sums still due SFPP, but which it fails to collect within 180 days after a Commission order issues. Because the proposal it a part of an uncontested settlement, the Commission will shorten the comment period to 10 calendar days, or Friday, February 25, 2011. Portions of the filing are confidential and shippers concerned with potential impact on their refunds should contact SFPP directly by calling Charles Caldwell, Esq., a lawyer at Vinson and Elkins, First City Tower, 1001 Fannin Street, Suite 2500, Houston, TX 77002-6760, telephone number 713 758-4518.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 25, 2011.

Dated: February 15, 2011.
Kimberly D. Bose,
Secretary.

[FR Doc. 2011-3885 Filed 2-18-11; 8:45 am]

BILLING CODE 6717-01-P